DEPARTMENT OF STATE

[Public Notice 3952]

Office of the Coordinator for Counterterrorism; Designation of Foreign Terrorist Organizations

AGENCY: Department of State.

ACTION: Designation of Foreign Terrorist Organizations.

Pursuant to section 219 of the Immigration and Nationality Act (“INA”), as added by the Antiterrorism and Effective Death Penalty Act of 1996, Pub. L. No. 104-132, § 302, 110 Stat. 1214, 1248 (1996), and amended by the Illegal Immigration Reform and Immigrant Responsibility Act of 1996, Pub. L. No. 104-208, 110 Stat. 3009 (1996), the Secretary of State hereby designates, effective March 27, 2002, the following organizations as foreign terrorist organizations:

Al-Aqsa Martyrs Brigade also known as the Al-Aqsa Martyrs Battalion

Asbat al-Ansar

Salafist Group for Call and Combat also known as the Salafist Group for Preaching and Combat also known as GSPC also known as Groupe Salafiste pour la Prédication et le Combat

Dated: March 19, 2002.
Francis X. Taylor,
Ambassador, Coordinator for Counterterrorism, Department of State.

[FR Doc. 02-7212 Filed 3-26-02; 5:00 pm]

BILLING CODE 4710-10-P